DEPARTMENT OF HEALTH AND HUMAN SERVICES

Request for Public Comments on Reports on Alcoholic Beverages and Health To Inform the Dietary Guidelines for Americans, 2025-2030

AGENCY: U.S. Department of Health and Human Services (HHS), Office of the Assistant Secretary for Health (OASH), Office of Disease Prevention and Health Promotion; U.S. Department of Agriculture (USDA), Food, Nutrition, and Consumer Services (FNCS).

ACTION: Notice and request public comments on two reports on alcoholic beverages and health to inform the Dietary Guidelines for Americans, 2025-2030 (Dietary Guidelines).

SUMMARY: HHS and USDA invite the public to provide written comments on two reports: The Interagency Coordinating Committee on the Prevention of Underage Drinking (ICCPUD) Alcohol Intake and Health (AIH) draft report and The National Academies of Sciences, Engineering, and Medicine's (NASEM) Review of Evidence on Alcohol and Health report.

DATES: Written comments will be accepted for 30 days. This public comment period closes on the 30th calendar day at 11:59 p.m. ET. Specific dates will be announced at www.DietaryGuidelines.gov.

ADDRESSES: Links to both reports, along with additional information about each report, are available at www.DietaryGuidelines.gov/alcohol/info. You may submit comments as follows:

• Online (preferred method): Follow the instructions for submitting comments at www.regulations.gov. Comments submitted electronically, including attachments, will be posted to Docket HHS-OASH-2024-0019. HHS-OASH-2024-0019

• Mail: Mail/courier to Janet M. de Jesus, MS, RD, HHS/OASH/ODPHP, 1101 Wootton Parkway, Suite 420S, Rockville, MD 20852. For written/paper submissions, ODPHP will post your comment, and any attachments, to www.regulations.gov.

FOR FURTHER INFORMATION CONTACT: Janet M. de Jesus, MS, RD; Office of Disease Prevention and Health Promotion, 1101 Wootton Parkway, Suite 420, Rockville, MD 20852; Phone: 240-453-8266; Email DietaryGuidelines@hhs.gov. Additional information is available at www.DietaryGuidelines.gov.

SUPPLEMENTARY INFORMATION:

Authority and Purpose: Under Section 301 of Public Law 101-445 (7 U.S.C. 5341, the National Nutrition Monitoring and Related Research Act of 1990, Title III), the Secretaries of HHS and USDA are directed to publish the Dietary Guidelines jointly at least every five years. Guidance on the consumption of alcoholic beverages has been included in each edition of the Dietary Guidelines since the first edition in 1980. In the process of updating the Dietary Guidelines, HHS and USDA determined the topic of alcoholic beverages and health required a comprehensive review with significant, specific expertise. ICCPUD and NASEM conducted separate, complementary scientific reviews on adult alcohol consumption and health. Each scientific review resulted in a report with findings, not recommendations, on alcohol consumption. HHS and USDA will consider these findings to help inform guidance on alcoholic beverage consumption in the Dietary Guidelines.

Public Comments: HHS and USDA request comments on both reports. Specifically, HHS and USDA request comments on considerations for the Departments as they use the reports to inform guidance on alcoholic beverage consumption in the Dietary Guidelines. Additionally, ICCPUD will consider public comments on its draft report to ensure the findings in its report are clearly presented and may make adjustments based on public input. Specific questions to consider when commenting on the ICCPUD draft report are available at: https://www.stopalcoholabuse.gov/research-resources/alcohol-intake-health.aspx.

Additional Information: Additional information about each scientific review and the resulting reports is available at www.DietaryGuidelines.gov/alcohol/info.

Brandon L. Taylor,
Deputy Assistant Secretary for Health, Office of Disease Prevention and Health Promotion, Office of the Assistant Secretary for Health.

[FR Doc. 2025-00416 Filed 1-14-25; 8:45 am]

BILLING CODE 4150-32-P